DEPARTMENT OF VETERANS AFFAIRS

Genomic Medicine Program Advisory Committee; Notice of Meeting

The Department of Veterans Affairs (VA) gives notice under Public Law 92-463 (Federal Advisory Committee Act) that the Genomic Medicine Program Advisory Committee will conduct a telephone conference call meeting from 1 p.m. to 3 p.m. on January 7, 2008, at VA Central Office, 1722 I Street, NW., Room 900, Washington, DC. The meeting is open to the public.

The purpose of the Committee is to provide advice and make recommendations to the Secretary of Veterans Affairs on using genetic information to optimize medical care of veterans and to enhance development of tests and treatments for diseases particularly relevant to veterans.

At the January 7 meeting, the Committee will review recommendations of the Hereditary Non-polyposis Colorectal Cancer Advisory Working Group and the Endocrine Tumors Advisory Working Group. Chairs of the two groups will summarize the work of their panels.

A ten minute period will be reserved at 1:30 p.m. Eastern Time for public comments. Members of the public may also submit, at the time of the meeting, a 1-2 page summary of their comments for inclusion in the official meeting record. Any member of the public seeking additional information, to include details regarding telephone access to the meeting, should contact Dr. Sumitra Muralidhar at sumitra.muralidhar@va.gov.

Dated: December 13, 2007.
By Direction of the Secretary:
E. Phillip Riggin,
Committee Management Officer.

[FR Doc. 07-6118 Filed 12-19-07; 8:45 am]

BILLING CODE 8320-01-M